DEPARTMENT OF AGRICULTURE

Food Safety and Inspection Service

[Docket No. FSIS-2020-0030]

Availability of FSIS Guideline To Assist With the Donation of Eligible Meat & Poultry Products to Non-Profit Organizations

AGENCY: Food Safety and Inspection Service, USDA.

ACTION: Notice of availability and request for comments.

SUMMARY: The Food Safety and Inspection Service (FSIS) is announcing the availability of and requesting comment on a guideline for meat and poultry establishments interested in donating products to non-profit organizations. FSIS has received several questions from meat and poultry establishments and non-profit organizations on this subject and has decided to address the major concerns associated with donation in this guideline. FSIS encourages establishments to donate meat and poultry products to non-profit organizations, when possible, to reduce food loss and waste.

DATES: Submit Comments on or before February 19, 2021.

ADDRESSES: A downloadable version of the guideline is available to view and print at https://www.fsis.usda.gov/wps/portal/fsis/topics/regulatory-compliance/guidelines. No hard copies of the guideline have been published.

FSIS invites interested persons to submit comments on this proposed rule. Comments may be submitted by one of the following methods:

• Federal eRulemaking Portal: This website provides the ability to type short comments directly into the comment field on this web page or attach a file for lengthier comments. Go to https://www.regulations.gov. Follow the on-line instructions at that site for submitting comments.

• Mail, including CD-ROMs, etc.: Send to Docket Clerk, U.S. Department of Agriculture, Food Safety and Inspection Service, 1400 Independence Avenue SW, Mailstop 3758, Washington, DC 20250-3700.

• Hand- or courier-delivered submittals: Deliver to 1400 Independence Avenue SW, Jamie L. Whitten Building, Room 350-E, Washington, DC 20250-3700.

Instructions: All items submitted by mail or electronic mail must include the Agency name and docket number FSIS-2016-0026. Comments received in response to this docket will be made available for public inspection and posted without change, including any personal information, to https://www.regulations.gov.

Docket: For access to background documents or comments received, call (202) 720-5627 to schedule a time to visit the FSIS Docket Room at 1400 Independence Avenue SW, Washington, DC 20250-3700.

FOR FURTHER INFORMATION CONTACT: Rachel Edelstein, Assistant Administrator, Office of Policy and Program Development by telephone at (202) 205-0495.

SUPPLEMENTARY INFORMATION:

Background

In the United States, food waste is estimated as constituting between 30-40 percent of the food supply. This figure, based on estimates from USDA's Economic Research Service of a 31 percent food loss at the retail and consumer levels, corresponds to approximately 133 billion pounds and $161 billion worth of food in 2010. Wasted food is the single largest category of material placed in municipal landfills and represents nourishment that could have helped feed families in need.¹ Additionally, water, energy, and labor used to produce wasted food could have been employed for other purposes. Effectively reducing food waste will require cooperation among federal, state, tribal and local governments, faith-based institutions, environmental organizations, communities, and the entire supply chain.

¹ See: https://www.ers.usda.gov/webdocs/publications/43833/43680_eib121.pdf?v=4126.8.

In October 2018, the U.S. Department of Agriculture (USDA), the U.S. Environmental Protection Agency (EPA), and the U.S. Food and Drug Administration (FDA) launched the Winning on Reducing Food Waste Initiative in a formal agreement.² As part of the initiative, the agencies affirmed their shared commitment to work towards the national goal of reducing food loss and waste by 50 percent by 2030. The agencies agreed to coordinate food loss and waste actions such as education and outreach, research, community investments, voluntary programs, public-private partnerships, tool development, technical assistance, event participation, and policy discussion on the impacts and importance of reducing food loss and waste. While there have been significant actions taken and commitments made through public-private partnerships to date, there is still much work to be done. More information on USDA's Winning on Reducing Food Waste Initiative can be found on the USDA website at: https://www.usda.gov/foodlossandwaste/winning.

² See: https://www.usda.gov/sites/default/files/documents/usda-fda-epa-formal-agreement.pdf.

FSIS believes that meat and poultry businesses can be a critical component of reducing food loss and waste. Therefore, FSIS is announcing the availability of a guideline to help meat and poultry establishments understand FSIS's requirements for donating meat and poultry products to non-profit organizations. The guideline explains inspection, labeling, and shipping requirements and exemptions.

FSIS encourages interested parties to follow this guideline. This guideline represents current FSIS thinking, and FSIS will update it as necessary to reflect comments received and any additional information that becomes available. FSIS is seeking comments on this guideline as part of its efforts to continuously assess and improve the effectiveness of policy documents.

Additional Public Notification

Public awareness of all segments of rulemaking and policy development is important. Consequently, FSIS will announce this Federal Register publication online through the FSIS web page located at: http://www.fsis.usda.gov/federal-register. FSIS also will make copies of this publication available through the FSIS Constituent Update, which is used to provide information regarding FSIS policies, procedures, regulations, Federal Register notices, FSIS public meetings, and other types of information that could affect or would be of interest to our constituents and stakeholders. The Constituent Update is available on the FSIS web page. Through the web page, FSIS can provide information to a much broader, more diverse audience. In addition, FSIS offers an email subscription service which provides automatic and customized access to selected food safety news and information. This service is available at: http://www.fsis.usda.gov/subscribe. Options range from recalls to export information, regulations, directives, and notices. Customers can add or delete subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination, any person in the United States under any program or activity conducted by the USDA.

How To File a Complaint of Discrimination

To file a complaint of discrimination, complete the USDA Program Discrimination Complaint Form, which may be accessed online at: http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW, Washington, DC 20250-9410.

Fax: (202) 690-7442.

Email: program.intake@usda.gov.

Persons with disabilities who require alternative means for communication (Braille, large print, audiotape, etc.), should contact USDA's TARGET Center at (202) 720-2600 (voice and TDD).

Done in Washington, DC.
Paul Kiecker,
Administrator.

[FR Doc. 2020-28082 Filed 12-18-20; 8:45 am]

BILLING CODE 3410-DM-P